DEPARTMENT OF ENERGY

Federal Energy Regulatory Commission

[Project Nos. 2516 and 2517]

Allegheny Energy Supply; Notice of Meeting

October 11, 2000.

Allegheny Energy Supply, licensee for the Dam No. 4 Project No. 2516 and the Dam No. 5 Project No. 2517, currently is consulting with state and federal agencies concerning the relicensing of those projects. In this regard, Commission staff intends to participate with representatives of the licensee, resource agencies, and concerned non-governmental entities at a meeting to be held at the Hagerstown Corporate Center, 10435 Downsville Pike, Hagerstown, Maryland, at 10:00 a.m., Thursday, November 2, 2000. All interested persons are welcome to attend.

For further information, please contact Charles Simons, of Allegheny Energy Supply, on (724) 838-6397.

David P. Boergers,
Secretary.

[FR Doc. 00-26551 Filed 10-16-00; 8:45 am]

BILLING CODE 6717-01-M